DEPARTMENT OF TRANSPORTATION

Pipeline and Hazardous Materials Safety Administration

49 CFR Parts 171 and 174

[Docket No. PHMSA-2025-0099 (HM-268K)]

RIN 2137-AG13

Hazardous Materials: Removing Burdensome Rail Reporting Requirements

AGENCY: Pipeline and Hazardous Materials Safety Administration (PHMSA), Department of Transportation (DOT).

ACTION: Notice of Proposed Rulemaking (NPRM).

SUMMARY: PHMSA proposes to remove or replace various rail transportation requirements that are either obsolete, overly burdensome, or conflict with other requirements in the Hazardous Materials Regulations (HMR).

DATES: Comments must be received on or before September 2, 2025.

ADDRESSES: You may submit comments identified by the Docket Number PHMSA-2025-0099 using any of the following methods:

E-Gov Web: https://www.regulations.gov. This site allows the public to enter comments on any Federal Register notice issued by any agency. Follow the online instructions for submitting comments.

Mail: Docket Management System: U.S. Department of Transportation, 1200 New Jersey Avenue SE, West Building Ground Floor, Room W12-140, Washington, DC 20590-0001.

Hand Delivery: U.S. DOT Docket Management System: West Building Ground Floor, Room W12-140, 1200 New Jersey Avenue SE, between 9 a.m. and 5 p.m., Monday through Friday, except Federal holidays.

Fax: 1-202-493-2251.

Instructions: Please include the docket number PHMSA-2025-0099 at the beginning of your comments. If you submit your comments by mail, submit two copies. If you wish to receive confirmation that PHMSA received your comments, include a self-addressed stamped postcard. Internet users may submit comments at https://www.regulations.gov.

Note: Comments are posted without changes or edits to https://www.regulations.gov, including any personal information provided. There is a privacy statement published on https://www.regulations.gov.

Privacy Act: In accordance with 5 U.S.C. 553(c), DOT solicits comments from the public to inform its rulemaking process. DOT posts these comments, without edit, including any personal information the commenter provides, to https://www.regulations.gov, as described in the system of records notice (DOT/ALL-14 FDMS), which can be reviewed at https://www.dot.gov/privacy.

Confidential Business Information: Confidential Business Information (CBI) is commercial or financial information that is both customarily and actually treated as private by its owner. Under the Freedom of Information Act (FOIA, 5 U.S.C. 552), CBI is exempt from public disclosure. It is important that you clearly designate the comments submitted as CBI if: your comments responsive to this document contain commercial or financial information that is customarily treated as private; you actually treat such information as private; and your comment is relevant or responsive to this notice. You may ask PHMSA to provide confidential treatment to information you give to the agency by taking the following steps: (1) mark each page of the original document submission containing CBI as “Confidential”; (2) send PHMSA, along with the original document, a second copy of the original document with the CBI deleted; and (3) explain why the information that you are submitting is CBI. Submissions containing CBI should be sent to Alexander Wolcott, Standards and Rulemaking Division, Pipeline and Hazardous Materials Safety Administration (PHMSA), 2nd Floor, 1200 New Jersey Avenue SE, Washington, DC 20590-0001, or by email at alexander.wolcott@dot.gov. Any materials PHMSA receives that is not specifically designated as CBI will be placed in the public docket.

Docket: For access to the docket to read background documents or comments received, go to http://www.regulations.gov. Follow the online instructions for accessing the docket. Alternatively, you may review the documents in person at the street address listed above.

FOR FURTHER INFORMATION CONTACT: Alexander Wolcott, Transportation Regulations Specialist, 1200 New Jersey Avenue SE, Washington, DC 20590, 202-366-8553, alexander.wolcott@dot.gov.

SUPPLEMENTARY INFORMATION:

I. General Discussion

PHMSA is proposing several changes to Part 171, General Information, Regulations, and Definitions, and Part 174, Carriage by Rail of Chapter I of Title 49 of the Code of Federal Regulations (CFR). These proposed changes would remove or replace various rail requirements that are either obsolete, overly burdensome, or conflict with other requirements in the HMR. PHMSA does not expect that these proposed revisions would have any adverse impact on safety.

Section 171.7 contains a list of the various documents PHMSA has incorporated by reference into the HMR. Section 171.7 also includes a table displaying materials that are not incorporated by reference. PHMSA is proposing to remove several publications from the table issued by the Association of American Railroad's (AAR) Bureau of Explosives (BOE), including the Intermodal Loading Guide for Products in Closed Trailers and Containers, Pamphlet 6, Pamphlet 6A, Pamphlet 6C, and the Emergency Handling of Hazardous Materials in Surface Transportation. Many of these publications have not been updated in decades and are no longer relevant to the nation's modern supply chain. PHMSA is proposing to remove these obsolete publications from the table and to make other conforming changes to §§ 174.55, 174.101, 174.112, 174.115, and 174.290 to remove subsequent references to the same publications.

Section 174.20(a) authorizes a rail carrier to impose local or carrier restrictions for hazardous materials when acceptance, transportation, or delivery is unusually hazardous. Section 174.20(b) also requires a carrier to report these restrictions to the AAR BOE. The removal of these reporting requirements was initiated by an AAR proposal at the June 2016, Railroad Safety Advisory Committee (RSAC) meeting as their recommendation was that the reporting requirement to the AAR's BOE was no longer necessary. The final decision to remove and reserve this section was approved by consensus vote at the May 25, 2017, RSAC meeting and offered to PHMSA and Federal Railroad Administration (FRA) for consideration. Therefore, PHMSA understands these reports to be outdated requirements, but nonetheless welcomes input from stakeholders on their current use, if any. PHMSA expects removing this section would not adversely impact safety because rail carriers would still be able to make a determination that local conditions make the acceptance, transportation, or delivery of hazardous materials unusually hazardous. This would maintain the current level of safety by retaining the railroad's discretion to restrict the movement of hazardous materials when a rail line is unsafe due to weather, track damage, or other reasons that would make the transportation of hazardous materials unusually hazardous while reducing reporting burdens.

Section 174.67 prescribes the requirements for tank car transloading. PHMSA is proposing to remove certain outdated and unnecessary requirements from § 174.67, including removing the references to dirt and cinders in paragraph (b), amending paragraph (d) to provide flexibility in protecting open tank cars during transloading, and removing paragraph (n) because it is redundant to § 174.57. PHMSA expects that these changes would not have any adverse impact on safety as transloading has become significantly less common since the adoption of § 174.67 and the risks that these requirements were meant to mitigate have significantly diminished due to technological advances in the rail industry over the last 50 years.

II. Regulatory Analysis and Notices

A. Legal Authority

This proposed rule is published under the authority of the Secretary of Transportation set forth in the Federal Hazardous Materials Transportation Laws (49 U.S.C. 5101 et seq.) and delegated to the PHMSA Administrator pursuant to 49 CFR 1.97.

B. Executive Orders 12866; Regulatory Planning and Review

Executive Order (E.O.) 12866 (“Regulatory Planning and Review”),¹ as implemented by DOT Order 2100.6B (“Policies and Procedures for Rulemaking”), requires agencies to regulate in the “most cost-effective manner,” to make a “reasoned determination that the benefits of the intended regulation justify its costs,” and to develop regulations that “impose the least burden on society.” DOT Order 2100.6B specifies that regulations should generally “not be issued unless their benefits are expected to exceed their costs.” In arriving at those conclusions, E.O. 12866 requires that agencies should consider “both quantifiable measures . . . and qualitative measures of costs and benefits that are difficult to quantify” and “maximize net benefits . . . unless a statute requires another regulatory approach.” E.O. 12866 also requires that “agencies should assess all costs and benefits of available regulatory alternatives, including the alternative of not regulating.” DOT Order 2100.6B directs that PHMSA and other Operating Administrations must generally choose the “least costly regulatory alternative that achieves the relevant objectives” unless required by law or compelling safety need.

¹ 58 FR 51735 (Oct. 4, 1993).

E.O. 12866 and DOT Order 2100.6B also require that PHMSA submit “significant regulatory actions” to the Office of Information and Regulatory Affairs (OIRA) within the Executive Office of the President's Office of Management and Budget (OMB) for review. This NPRM is a not significant regulatory action pursuant to E.O. 12866; it also has not designated this rule as a “major rule” as defined by the Congressional Review Act (5 U.S.C. 801 et seq.).

PHMSA has complied with the requirements in E.O. 12866 as implemented by DOT Order 2100.6B and made a preliminary determination that this NPRM would result in cost savings by reducing regulatory burdens and regulatory uncertainty for the railroad industry by removing unnecessary reporting requirements. PHMSA expects those cost savings would also result in reduced costs for the public to whom those entities generally transfer a portion of their compliance costs.

C. Executive Orders 14192 and 14219

This proposed rule, if finalized as proposed, is expected to be an E.O. 14192 deregulatory action.² PHMSA seeks data that would be helpful to generate an estimate of the cost savings from this rule. PHMSA's initial estimates are that the total costs of the rule on the regulated community would be less than zero. Nor does this proposed rule does implicate any of the factors identified in section 2(a) of E.O. 14219 indicative of a regulation that is “unlawful . . . [or] that undermine[s] the national interest.” ³

² 90 FR 9065 (Jan. 31, 2025).

³ 90 FR 10583 (Feb. 19, 2025).

D. Energy-Related Executive Orders 13211, 14154, and 14156

The President has declared in E.O. 14156 (“Declaring a National Energy Emergency”) ⁴ a national emergency to address the United States's inadequate energy development, production, transportation, refining, and generation capacity. Similarly, E.O. 14154 (“Unleashing American Energy”) ⁵ asserts a Federal policy to unleash American energy by ensuing access to abundant supplies of reliable, affordable energy from (inter alia) the removal of “undue burden[s]” on the identification, development, or use of domestic energy resources. PHMSA preliminary finds this proposed rule is consistent with each of E.O. 14156 and E.O. 14154. The proposed rule would give railroads relief by reducing reporting costs and modernizing safety requirements to remove outdated, inefficient methods. PHMSA therefore expects the regulatory amendments in this proposed rule would in turn improve railroads' ability to provide abundant, reliable, affordable energy products in response to residential, commercial, and industrial demand.

⁴ 90 FR 8353 (Jan. 29, 2025).

⁵ 90 FR 8353 (Jan. 29, 2025).

However, this proposed rule is not a “significant energy action” under E.O. 13211 (“Actions Concerning Regulations That Significantly Affect Energy Supply, Distribution, or Use”),⁶ which requires Federal agencies to prepare a Statement of Energy Effects for any “significant energy action.” This proposed rule is not a significant action under E.O. 12866, and moreover, it would not have a significant adverse effect on supply, distribution, or energy use. OIRA has therefore not designated this proposed rule as a significant energy action.

⁶ 66 FR 28355 (May 22, 2001).

E. Executive Order 13132: Federalism

PHMSA analyzed this proposed rule in accordance with the principles and criteria contained in E.O. 13132 (“Federalism”) ⁷ and the Presidential Memorandum (“Preemption”) published in the Federal Register on May 22, 2009.⁸ E.O. 13132 requires agencies to assure meaningful and timely input by State and local officials in the development of regulatory policies that may have “substantial direct effects on the States, on the relationship between the National Government and the States, or on the distribution of power and responsibilities among the various levels of government.” The Federal Hazardous Materials Transportation laws contain an express preemption provision at 49 U.S.C. 5125(b) that preempts state, local, and tribal requirements on certain covered subjects, unless the non-federal requirements are “substantively the same” as the federal requirements, including the following:

⁷ 64 FR 43255 (Aug. 10, 1999).

⁸ 74 FR 24693 (May 22, 2009).

(1) The designation, description, and classification of hazardous material;

(2) The packing, repacking, handling, labeling, marking, and placarding of hazardous material;

(3) The preparation, execution, and use of shipping documents related to hazardous material and requirements related to the number, contents, and placement of those documents;

(4) The written notification, recording, and reporting of the unintentional release in transportation of hazardous material; and

(5) The design, manufacture, fabrication, inspection, marking, maintenance, recondition, repair, or testing of a packaging or container represented, marked, certified, or sold as qualified for use in transporting hazardous material in commerce.

This proposed rule addresses covered subject items in section I above and would preempt state, local, and Tribal requirements not meeting the “substantively the same” standard. While the proposed rule may operate to preempt some State requirements, it would not impose any regulation that has substantial direct effects on the States, the relationship between the National Government and the States, or the distribution of power and responsibilities among the various levels of government. The preemptive effect of the regulatory amendments in this proposed rule is limited to the minimum level necessary to achieve the objectives of the Federal Hazardous Materials Transportation laws. Therefore, the consultation and funding requirements of E.O. 13132 do not apply.

F. Regulatory Flexibility Act

The Regulatory Flexibility Act (5 U.S.C. 601 et seq.) requires Federal agencies to conduct an Initial Regulatory Flexibility Analysis (IRFA) for a proposed rule subject to notice-and-comment rulemaking under the APA unless the agency head certifies that the proposed rule in the rulemaking would not have a significant economic impact on a substantial number of small entities. E.O. 13272 (“Proper Consideration of Small Entities in Agency Rulemaking”) ⁹ obliges agencies to establish procedures promoting compliance with the Regulatory Flexibility Act. DOT posts its implementing guidance on a dedicated web page.¹⁰ This proposed rule was developed in accordance with E.O. 13272 and DOT implementing guidance to ensure compliance with the Regulatory Flexibility Act. The proposed rule is expected to reduce burdens. Therefore, PHMSA certifies the proposed rule does not have a significant impact on a substantial number of small entities.

⁹ 67 FR 53461 (Aug. 16, 2002).

¹⁰ DOT, “Rulemaking Requirements Related to Small Entities,” https://www.transportation.gov/regulations/rulemaking-requirements-concerning-small-entities (last accessed Sept 3, 2024).

G. Unfunded Mandates Reform Act of 1995

The Unfunded Mandates Reform Act (UMRA, 2 U.S.C. 1501 et seq.) requires agencies to assess the effects of Federal regulatory actions on State, local, and Tribal governments, and the private sector. For any proposed or direct final rule that includes a Federal mandate that may result in the expenditure by state, local, and Tribal governments, in the aggregate of $100 million or more (in 1996 dollars) in any given year, the agency must prepare, amongst other things, a written statement that qualitatively and quantitatively assesses the costs and benefits of the Federal mandate.

This proposed rule does not impose unfunded mandates under UMRA because it does not result in costs of $100 million or more (in 1996 dollars) per year for either State, local, or Tribal governments, or to the private sector.

H. National Environmental Policy Act

The National Environmental Policy Act (NEPA, 42 U.S.C. 4321 et seq.) requires that Federal agencies assess and consider the impact of major Federal actions on the human and natural environment.

PHMSA analyzed this proposed rule in accordance with NEPA and has preliminarily determined that the rulemaking would not adversely affect safety and therefore would not significantly affect the quality of the human and natural environment. The public is invited to comment on the impact of the proposed action.

I. Executive Order 13175

PHMSA analyzed this proposed rule according to the principles and criteria in E.O. 13175 (“Consultation and Coordination with Indian Tribal Governments”) ¹¹ and DOT Order 5301.1A (“Department of Transportation Tribal Consultation Policies and Procedures”). E.O. 13175 requires agencies to assure meaningful and timely input from Tribal government representatives in the development of rules that significantly or uniquely affect Tribal communities by imposing “substantial direct compliance costs” or “substantial direct effects” on such communities or the relationship or distribution of power between the Federal government and Tribes.

¹¹ 65 FR 67249 (Nov. 9, 2000).

PHMSA assessed the impact of the proposed rule and determined that it would not significantly or uniquely affect Tribal communities or Indian Tribal governments. The rulemaking's regulatory amendments have a broad, national scope; therefore, this proposed rule would not significantly or uniquely affect Tribal communities, much less impose substantial compliance costs on Native American Tribal governments or mandate Tribal action. For these reasons, PHMSA has concluded that the funding and consultation requirements of E.O. 13175 and DOT Order 5301.1A do not apply.

J. Paperwork Reduction Act

The Paperwork Reduction Act (44 U.S.C. 3501 et seq.) and its implementing regulations at 5 CFR 1320.8(d) requires that PHMSA provide interested members of the public and affected agencies with an opportunity to comment on information collection and recordkeeping requests.

PHMSA has analyzed this NPRM in accordance with the Paperwork Reduction Act. PHMSA proposes to revise the approved information collections under the following OMB Control Numbers: OMB Control No. 2137-0559, “Rail Carrier and Tank Car Tanks Requirements, Rail Tank Car Tanks—Transportation of Hazardous Materials by Rail.”

This NPRM proposes to remove § 174.20(b), which requires reporting to the AAR BOE regarding any restrictions over any portion of its lines. PHMSA currently accounts for 34 offerors submitting 1.5 reports a year. Each report takes 20 minutes resulting in a reduction of 17 hours of annual burden.

PHMSA specifically requests comments on the information collection and recordkeeping burdens associated with developing, implementing, and maintaining these requirements for approval under this NPRM. Address written comments to the Dockets Unit as identified in the ADDRESSES section of this NPRM. PHMSA must receive comments regarding information collection burdens prior to the close of the comment period identified in the DATES section of this NPRM. Notwithstanding any other provision of law, no person is required to respond to a collection of information unless such collection displays a valid OMB control number.

Please direct your requests for a copy of this information collection to Steven Andrews, Office of Hazardous Materials Standards (PHH-12), Pipeline and Hazardous Materials Safety Administration, 1200 New Jersey Avenue SE, 2nd Floor, Washington, DC 20590-0001.

K. Executive Order 13609 and International Trade Analysis

E.O. 13609 (“Promoting International Regulatory Cooperation”) ¹² requires agencies consider whether the impacts associated with significant variations between domestic and international regulatory approaches are unnecessary or may impair the ability of American business to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements.

¹² 77 FR 26413 (May 4, 2012).

Similarly, the Trade Agreements Act of 1979 (Pub. L. 96-39), as amended by the Uruguay Round Agreements Act (Pub. L. 103-465), prohibits Federal agencies from establishing any standards or engaging in related activities that create unnecessary obstacles to the foreign commerce of the United States. For purposes of these requirements, Federal agencies may participate in the establishment of international standards, so long as the standards have a legitimate domestic objective, such as providing for safety, and do not operate to exclude imports that meet this objective. The statute also requires consideration of international standards and, where appropriate, that they be the basis for U.S. standards.

PHMSA engages with international standards setting bodies to protect the safety of the American public. PHMSA has assessed the effects of the proposed rule and has determined that its regulatory amendments would not cause unnecessary obstacles to foreign trade.

L. Cybersecurity and Executive Order 14028

E.O. 14028 (“Improving the Nation's Cybersecurity”) ¹³ directed the Federal government to improve its efforts to identify, deter, and respond to “persistent and increasingly sophisticated malicious cyber campaigns.” PHMSA has considered the effects of the proposed rule and has determined that its regulatory amendments would not materially affect the cybersecurity risk profile for affected entities.

¹³ 86 FR 26633 (May 17, 2021).

List of Subjects

49 CFR Part 171

Exports, Hazardous materials transportation, Hazardous waste, Imports, Incorporation by reference, Reporting and recordkeeping requirements.

49 CFR Part 174

Hazardous materials transportation, Incorporation by reference, Radioactive materials, Railroad safety.

In consideration of the foregoing, PHMSA proposes to amend 49 CFR chapter I as follows:

PART 171—GENERAL INFORMATION, REGULATIONS, AND DEFINITIONS

1. The authority citation for part 171 continues to read as follows:

Authority: 49 U.S.C. 5101-5128, 44701; Pub. L. 101-410 section 4; Pub. L. 104-134, section 31001; Pub. L. 114-74 section 701 (28 U.S.C. 2461 note); 49 CFR 1.81 and 1.97.

2. In § 171.7, revise “Table 1 to 49 CFR 171.7—Materials Not Incorporated by Reference” by revising the “Bureau of Explosives” entry in the table to read as follows:

§ 171.7 Reference material.

* * * * *

Table 1 to 49 CFR 171.7—Materials Not Incorporated by Reference
Source and name of material | 49 CFR reference
* * * * * * *
Bureau of Explosives, Hazardous Materials Systems (BOE), Association of American Railroads, American Railroads Building, 50 F Street NW, Washington, DC 20001:
Fetterley's Formula (The Determination of the Relief Dimensions for Safety Valves on Containers in which Liquefied gas is charged and when the exterior surface of the container is exposed to a temperature of 1,200 °F.) | 173.315
* * * * * * *

* * * * *

PART 174—CARRIAGE BY RAIL

3. The authority citation for part 174 continues to read as follows:

Authority: 49 U.S.C. 5101-5128; 33 U.S.C. 1321; 49 CFR 1.81 and 1.97.

§ 174.20 [AMENDED].

4. Remove and reserve § 174.20:

* * * * *

5. In § 174.55, revise paragraph (a) to read as follows:

§ 174.55 General requirements.

(a) Each package containing a hazardous material being transported by rail in a freight container or transport vehicle must be loaded so that it cannot fall or slide and must be safeguarded in such a manner that other freight cannot fall onto or slide into it under conditions normally incident to transportation. When this protection cannot be provided by using other freight, it must be provided by blocking and bracing.

* * * * *

6. In § 174.67:

a. Revise paragraph (b)(3);

b. Revise paragraph (d); and

c. Remove and reserve paragraph (n).

To read as follows:

§ 174.67 Tank car unloading.

* * * * *

(b) * * *

(3) Interior type. All debris must be carefully removed from around the cover before the yoke is unscrewed.

* * * * *

(d) When unloading through the bottom outlet of a car equipped with an interior manhole type cover, and in each case where unloading is done through the manhole (unless a special cover with a safety vent opening and a tight connection for the discharge outlet is used), the manhole must be protected against the entrance of sparks or other sources of ignition of vapor.

* * * * *

(n) [Reserved].

* * * * *

7. In § 174.101, revise paragraphs (o)(2) and (3) as follows:

§ 174.101 Loading Class 1 (explosive) materials.

* * * * *

(o) * * *

(2) Each truck body or trailer must be secured on the rail car so that it will not permanently change position or show evidence of failure or impending failure of the method of securing the truck body or trailer under impact from each end of at least 13 km (8.1 miles) per hour. Its efficiency must be determined by actual test, using dummy loads equal in weight and general character to the material to be shipped.

(3) Lading must be loaded, blocked, and braced within or on the truck body or trailer so that the lading will not change position under impact from each end of at least 13 km (8.1 miles) per hour.

* * * * *

8. In § 174.112, revise paragraphs (b) and (c)(3) as follows:

§ 174.112 Loading Division 1.3 materials and Division 1.2 (explosive) materials (Also see § 174.101).

* * * * *

(b) Except as provided in § 174.101(b), (n), or (o), Division 1.3 materials and Division 1.2 (explosive) materials must be transported in a closed car or container car which is in good condition, and into which sparks cannot enter. The car does not require the car certificates prescribed in § 174.104(c) through (f). If the doors are not tight, they must be stripped to prevent the entrance of sparks. Wood floored cars must be equipped with spark shields (see § 174.104). Packages of Division 1.3 materials and Division 1.2 (explosive) materials must be blocked and braced to prevent their shifting and possible damage due to shifting of other freight during transportation.

(c) * * *

(3) Packages of Division 1.2 materials and Division 1.3 (explosive) materials are blocked and braced within the truck body, trailer, or container to prevent their shifting and possible damage due to shifting of other freight during transportation (ends, sidewalls, or doors of the truck body, trailer, or container may not be relied on to prevent the shifting of heavy loads).

9. In § 174.115, revise paragraphs (a) and (b)(3) as follows:

§ 174.115 Loading Division 1.4 (explosive) materials.

(a) Division 1.4 (explosive) materials may be loaded into any closed car in good condition, or into any container car in good condition. Car certificates are not required. Packages of Division 1.4 (explosive) materials must be blocked and braced to prevent their shifting and possible damage due to shifting of other freight during transportation.

(b) * * *

(3) Packages of Division 1.4 (explosive) materials are blocked and braced within the truck body, trailer, or container to prevent their shifting and possible damage due to shifting of other freight during transportation. Ends, side walls, or doors of the truck body, trailer, or container may not be relied on to prevent shifting of heavy loads.

10. In § 174.290, revise paragraph (e) to read as follows:

§ 174.290 Materials extremely poisonous by inhalation shipped by, for, or to the Department of Defense.

* * * * *

(e) Bombs, projectiles, and cannon ammunition being transported by rail must be loaded, blocked, and braced as shown in Department of Defense specifications. When a shipment is loaded in a gondola car it must be securely blocked and braced and not loaded higher than the sides of the car.

* * * * *

Issued in Washington, DC, on June 26, 2025, under the authority delegated in 49 CFR 1.97.
Benjamin D. Kochman,
Acting Administrator.

[FR Doc. 2025-12098 Filed 6-27-25; 4:15 pm]

BILLING CODE 4910-60-P